DEPARTMENT OF COMMERCE

National Oceanic and Atmospheric Administration

50 CFR Part 648

[I.D. 090401C]

New England Fishery Management Council; Public Meeting

AGENCY: National Marine Fisheries Service (NMFS), National Oceanic and Atmospheric Administration (NOAA), Commerce.

ACTION: Public meeting.

SUMMARY: The New England Fishery Management Council (Council) will hold a 3-day Council meeting on September 25 through 27, 2001, to consider actions affecting New England fisheries in the exclusive economic zone (EEZ).

DATES: The meeting will be held on Tuesday, Wednesday, and Thursday, September 25, 26, and 27, 2001. The meeting will begin at 9:00 a.m. on Tuesday and 8:30 a.m. on Wednesday and Thursday.

ADDRESSES: The meeting will be held at the Holiday Inn Express, 110 Middle Street, Fairhaven, MA 02719; telephone (508) 997-1281. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Tuesday, September 25, 2001

After introductions, the Council will elect its 2001-2002 officers. The Sea Scallop Committee report to follow will be the only item on the agenda for the rest of the day. The Sea Scallop Committee will ask the Council to approve draft management measures to be included and analyzed in the Draft Supplemental Environmental Impact Statement for Amendment 10 to the Sea Scallop Fishery Management Plan (FMP). The discussion will include review of Sea Scallop Scallop Committee, Plan Development Team, and Advisory Panel recommendations. Measures to be considered include options that concern: Finfish bycatch during scallop fishing; limited access permit restrictions, including allocating differing days-at-sea amounts by gear sector; framework adjustments and annual specifications, including changing the scallop fishing year and increasing the days-at-sea carry-over provision; programs to fund and administer scallop research and on-board observers; data collection and monitoring; management of the general category open-access scallop fishery and possibly other measures.

Wednesday, September 26

The Research Steering Committee will provide an update on its most recent activities. The Northeast Fisheries Science Center will then present a follow-up report on the stock status of Gulf of Maine cod, which was included as part of an advisory to the Council last month. The NMFS Regional Office will then review its recent efforts to revise the current days-at-sea management system. Following these briefings, there will be a report from the Council’s Capacity Committee on its progress to develop proposals to reduce latent fishing effort, allow consolidation of fishing effort and modify permit transfer restrictions. The remainder of the day will be spent on groundfish issues. The Council intends to take final action on Framework Adjustment 36 to the Northeast Multispecies FMP. Measures under the framework would reduce Gulf of Maine (GOM) cod fishing mortality and discards, extend or change the Western GOM closed area, change the area authorized for the northern shrimp fishery, and allow tuna purse seine vessels access to groundfish closed areas. The Council is considering the full range of measures for reducing GOM cod fishing mortality, including changes to recreational fishing measures.

Thursday, September 27

Reports on recent activities will include those from the Council Chairman and Executive Director, the NMFS Regional Administrator, Northeast Fisheries Science Center and Mid-Atlantic Fishery Management Council liaisons, NOAA General Counsel and representatives of the U.S. Coast Guard, NMFS Enforcement and the Atlantic States Marine Fisheries Commission. The Council’s Scientific and Statistical Committee will review its deliberations on issues and questions about the status determination criteria (overfishing definitions) for scallops under rotational area management, red crab and skates, and the Stock Assessment Workshop (SAW) 33 Advisory Report. The Monkfish Committee will review its initial discussions concerning the annual framework adjustment called for in the Monkfish FMP. Included will be the effect of the timing of the upcoming monkfish stock assessment and the impact of the recent court decision on the Council’s actions. The Monkfish Committee will also review its discussions about preliminary recommendations for 2002 workload priorities, including a possible plan amendment. The Herring Committee will discuss and ask the Council to take final action on Framework Adjustment 1 to the Atlantic Herring FMP. The action would implement a January through May seasonal quota in herring Management Area 1A and set a 6,000 metric ton quota in the areas for 2002. The committee also will recommend not to support a mid-season adjustment to the 2001 allocation for joint ventures and not to develop a limited entry or controlled access in 2002. The Protected Species Committee will report on and ask for approval of its comments on NMFS’s draft Right Whale Recovery Plan and Biological Opinions for the Northeast Multispecies, Monkfish, and Dogfish FMPs. The day will conclude with a report on Marine Protected Areas by the Council Executive Director. Any other outstanding business also will be addressed at this time.

Although other non-emergency issues not contained in this agenda may come before this Council for discussion, those issues may not be the subjects of formal action during this meeting. Council action will be restricted to those issues specifically listed in this notice and any issues arising after publication of this notice that require emergency action under section 305(c) of the Magnuson-Stevens Act, provided the public has been notified of the Council's intent to take final action to address the emergency.

The New England Council will consider public comments at a minimum of two Council meetings before making recommendations to the National Marine Fisheries Service Regional Administrator on any framework adjustment to a fishery management plan. If the Regional Administrator concurs with the adjustment proposed by the Council, the Regional Administrator may publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: September 5, 2001.
Bruce C. Morehead,
Acting Director, Office of Sustainable Fisheries, National Marine Fisheries Service.

[FR Doc. 01-22647 Filed 9-7-01; 8:45 am]

BILLING CODE 3510-22-S